DEPARTMENT OF TRANSPORTATION

Federal Aviation Administration

14 CFR Part 39

[Docket No. FAA-2019-0117; Product Identifier 2018-NM-169-AD; Amendment 39-19696; AD 2019-15-03]

RIN 2120-AA64

Airworthiness Directives; 328 Support Services GmbH (Type Certificate Previously Held by AvCraft Aerospace GmbH; Fairchild Dornier GmbH; Dornier Luftfahrt GmbH) Airplanes

AGENCY: Federal Aviation Administration (FAA), Department of Transportation (DOT).

ACTION: Final rule.

SUMMARY: The FAA is adopting a new airworthiness directive (AD) for all 328 Support Services GmbH Model 328-100 airplanes. This AD was prompted by a report indicating that undetected cracks may develop at the roll spoiler bearing arms. This AD requires a one-time non-destructive test (NDT) inspection for cracks in the roll spoiler bearing arms and, if necessary, corrective actions. The agency is issuing this AD to address the unsafe condition on these products.

DATES: This AD is effective September 19, 2019.

The Director of the Federal Register approved the incorporation by reference of a certain publication listed in this AD as of September 19, 2019.

ADDRESSES: For service information identified in this final rule, contact 328 Support Services GmbH, Global Support Center, P.O. Box 1252, D-82231 Wessling, Federal Republic of Germany; telephone +49 8153 88111 6666; fax +49 8153 88111 6565; email gsc.op@328support.de; internet http://www.328support.de. You may view this service information at the FAA, Transport Standards Branch, 2200 South 216th St., Des Moines, WA. For information on the availability of this material at the FAA, call 206-231-3195. It is also available on the internet at http://www.regulations.gov by searching for and locating Docket No. FAA-2019-0117.

Examining the AD Docket

You may examine the AD docket on the internet at http://www.regulations.gov by searching for and locating Docket No. FAA-2019-0117; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Todd Thompson, Aerospace Engineer, International Section, Transport Standards Branch, FAA, 2200 South 216th St., Des Moines, WA 98198; telephone and fax 206-231-3228.

SUPPLEMENTARY INFORMATION:

Discussion

The FAA issued a notice of proposed rulemaking (NPRM) to amend 14 CFR part 39 by adding an AD that would apply to all 328 Support Services GmbH Model 328-100 airplanes. The NPRM published in the Federal Register on March 8, 2019 (84 FR 8482). The NPRM was prompted by a report indicating that undetected cracks may develop at the roll spoiler bearing arms. The NPRM proposed to require a one-time NDT inspection for cracks in the roll spoiler bearing arms and, if necessary, corrective actions.

The FAA is issuing this AD to address cracks at the roll spoiler bearing arms, which, if not detected and corrected, could lead to a roll spoiler becoming unresponsive to flight crew control inputs, possibly resulting in loss of control of the airplane.

The European Aviation Safety Agency (EASA), which is the Technical Agent for the Member States of the European Union, has issued EASA Airworthiness Directive 2018-0254R1, dated June 4, 2019 (referred to after this as the Mandatory Continuing Airworthiness Information, or “the MCAI”), to correct an unsafe condition for all 328 Support Services GmbH Model 328-100 airplanes. The MCAI states:

Dornier 328 Maintenance Review Board Report provides instructions for a detailed inspection for the roll spoilers, including the bearing arms, by eddy current [EC] method. It was reported that whilst performing Maintenance Planning Document Task 57-71-03-02-01, referring to Non-Destructive Test (NDT) Manual task 57-71-03-318-000-AA0, the stacking of 6 parts at the bearing arm No. 3 prevents detection of cracks with the given EC test settings. The NDT results are distorted by geometric features such as part edges and fastener installations. Furthermore, the access to certain areas is limited for the suggested NDT probe for geometrical reasons. The result of the technical investigation identified that undetected cracks may develop at the roll spoiler bearing arms, leading to a broken (disconnected) bearing arm No. 3, where the actuator is connected.

This condition, if not detected and corrected, could lead to a roll spoiler becoming unresponsive to flight crew control inputs, possibly resulting in loss of control of the aeroplane.

To address this potential unsafe condition, 328 SSG published the ASB [328 Support Services Alert Service Bulletin ASB-328-57-043, dated September 21, 2018] to provide appropriate inspection instructions.

For the reasons described above, EASA issued AD 2018-0254 to require a one-time NDT inspection of the affected parts and, depending on findings, accomplishment of applicable corrective action(s).

Since that [EASA] AD was issued, it was noted that an error had been made in the compliance times, creating an inconsistency with those in the ASB. This [EASA] AD is revised to correct those errors.

You may examine the MCAI in the AD docket on the internet at http://www.regulations.gov by searching for and locating Docket No. FAA-2019-0117.

Comments

The FAA gave the public the opportunity to participate in developing this final rule. The following presents the comments received on the NPRM and the FAA's response to each comment.

Requests To Correct Compliance Time

The commenters, David Davidson and David Moreno, each requested that the compliance time for accomplishing the NDT inspection specified in paragraph (h) of the proposed AD be revised to require the inspection within 2,500 flight hours (FH) after the effective date of the proposed AD instead of within 2,500 flight cycles (FC) after the effective date of the proposed AD. The commenters noted that a compliance time counted in FC conflicts with the compliance time specified in 328 Support Services Alert Service Bulletin ASB-328-57-043, dated September 21, 2018. The commenters went on to point out that using a compliance time counted in FH aligns with the regularly scheduled A5 maintenance check.

The FAA agrees with the commenters' requests to revise the specified compliance time from FC to FH. Since the agency issued the NPRM, EASA issued 2018-0254R1, dated June 4, 2019, to correct the identified error in the specified compliance time. The FAA has discussed this change with EASA and determined that using a FH compliance time will not adversely affect safety, and will allow the modification to be performed during regularly scheduled maintenance. Further, EASA and 328 Support Services GmbH provided data that confirms that the difference between FH and FC for determining compliance time is small, and the burden to the operator is minimal as a result of this change. Therefore, where figure 1 to paragraph (h) of the proposed AD used the phrase “within 2,500 FC after the effective date of this AD,” the FAA has revised figure 1 to paragraph (h) of this final AD to state “within 2,500 FH after the effective date of this AD.”

Conclusion

The FAA reviewed the relevant data, considered the comments received, and determined that air safety and the public interest require adopting this final rule with the change described previously and minor editorial changes. The agency has determined that these minor changes:

• Are consistent with the intent that was proposed in the NPRM for addressing the unsafe condition; and

• Do not add any additional burden upon the public than was already proposed in the NPRM.

The FAA has also determined that these changes will not increase the economic burden on any operator or increase the scope of this final rule.

Related Service Information Under 1 CFR Part 51

328 Support Services has issued Alert Service Bulletin ASB-328-57-043, dated September 21, 2018. This service information describes procedures for a one-time NDT inspection for cracks in the roll spoiler bearing arms. This service information is reasonably available because the interested parties have access to it through their normal course of business or by the means identified in the ADDRESSES section.

Costs of Compliance

The FAA estimates that this AD affects 27 airplanes of U.S. registry. The agency estimates the following costs to comply with this AD:

Estimated Costs for Required Actions
Labor cost | Parts cost | Cost per product | Cost on U.S. operators
8 work-hours × $85 per hour = $680 | $0 | $680 | $18,360

The FAA has received no definitive data that would enable the agency to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-15-03 328 Support Services GmbH (Type Certificate Previously Held by AvCraft Aerospace GmbH; Fairchild Dornier GmbH; Dornier Luftfahrt GmbH): Amendment 39-19696; Docket No. FAA-2019-0117; Product Identifier 2018-NM-169-AD.

(a) Effective Date

This AD is effective September 19, 2019.

(b) Affected ADs

None.

(c) Applicability

This AD applies to 328 Support Services GmbH (Type Certificate previously held by AvCraft Aerospace GmbH; Fairchild Dornier GmbH; Dornier Luftfahrt GmbH) Model 328-100 airplanes, certificated in any category, all serial numbers.

(d) Subject

Air Transport Association (ATA) of America Code 57, Wings.

(e) Reason

This AD was prompted by a report indicating that undetected cracks may develop at the roll spoiler bearing arms. The FAA is issuing this AD to address cracking at the roll spoiler bearing arms, which, if not detected and corrected, could lead to a roll spoiler becoming unresponsive to flight crew control inputs, possibly resulting in loss of control of the airplane.

(f) Compliance

Comply with this AD within the compliance times specified, unless already done.

(g) Definition of Affected Parts

For the purposes of this AD, an affected part is the bearing arm of roll spoilers having part number (P/N) 001B577A1200000, 001B577A1200001, 001B577A1200002, 001B577A1200003, 001B577A1200004, or 001B577A1200005.

(h) Inspection

Within the compliance time specified in Figure 1 to paragraph (h) of this AD, as applicable, do a non-destructive test (NDT) inspection of each affected part, in accordance with the Accomplishment Instructions of 328 Support Services Alert Service Bulletin ASB-328-57-043, dated September 21, 2018. The flight cycles (FC) specified in Figure 1 to paragraph (h) of this AD are the FC accumulated on the airplane since first flight of the airplane, unless otherwise specified.

(i) Corrective Action

If any crack is found during any inspection required by paragraph (h) of this AD: Before further flight, obtain corrective actions approved by the Manager, International Section, Transport Standards Branch, FAA; or the European Aviation Safety Agency (EASA); or 328 Support Services GmbH's EASA Design Organization Approval (DOA); and accomplish the corrective actions within the compliance time specified therein. If approved by the DOA, the approval must include the DOA-authorized signature.

(j) No Reporting Requirement

Although 328 Support Services Alert Service Bulletin ASB-328-57-043, dated September 21, 2018, specifies to submit certain information to the manufacturer, this AD does not include that requirement.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or 328 Support Services GmbH's EASA DOA. If approved by the DOA, the approval must include the DOA-authorized signature.

(l) Related Information

(1) Refer to Mandatory Continuing Airworthiness Information (MCAI) EASA AD 2018-0254R1, dated June 4, 2019, for related information. This MCAI may be found in the AD docket on the internet at http://www.regulations.gov by searching for and locating Docket No. FAA-2019-0117.

(2) For more information about this AD, contact Todd Thompson, Aerospace Engineer, International Section, Transport Standards Branch, FAA, 2200 South 216th St., Des Moines, WA 98198; telephone and fax 206-231-3228.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) 328 Support Services Alert Service Bulletin ASB-328-57-043, dated September 21, 2018.

(ii) [Reserved]

(3) For service information identified in this AD, contact 328 Support Services GmbH, Global Support Center, P.O. Box 1252, D-82231 Wessling, Federal Republic of Germany; telephone +49 8153 88111 6666; fax +49 8153 88111 6565; email gsc.op@328support.de; internet http://www.328support.de.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on July 26, 2019.
Michael Kaszycki,
Acting Director, System Oversight Division, Aircraft Certification Service.

[FR Doc. 2019-17504 Filed 8-14-19; 8:45 am]

BILLING CODE 4910-13-P